COORDINATING COUNCIL ON JUVENILE JUSTICE AND DELINQUENCY PREVENTION

[OJP (OJJDP) Docket No. 1455]

Meeting of the Coordinating Council on Juvenile Justice and Delinquency Prevention

AGENCY: Coordinating Council on Juvenile Justice and Delinquency Prevention.

ACTION: Notice of meeting.

SUMMARY: The Coordinating Council on Juvenile Justice and Delinquency Prevention (Council) is announcing the September 8, 2006, meeting of the Council.

DATE: Friday, September 8, 2006, 9:15 a.m.—12:30 p.m.

ADDRESSES: The meeting will take place at the Department of Justice, Office of Justice Programs, 810 Seventh Street, NW., 3rd floor, Washington, DC 20531.

FOR FURTHER INFORMATION CONTACT: Robin Delany-Shabazz, Designated Federal Official, by telephone at 202-307-9963 [Note: This is not a toll-free telephone number.], or by e-mail at Robin.Delany-Shabazz@usdoj.gov.

SUPPLEMENTARY INFORMATION: The Coordinating Council on Juvenile Justice and Delinquency Prevention, established pursuant to Section 3(2)A of the Federal Advisory Committee Act (5 U.S.C. App. 2) will meet to carry out its advisory functions under Section 206 of the Juvenile Justice and Delinquency Prevention Act of 2002, 42 U.S.C. 5601, et seq. Documents such as meeting announcements, agendas, minutes, and interim and final reports will be available on the Council's Web page at http://www.JuvenileCouncil.gov. (You may also verify the status of the meeting at that Web address.)

Although designated agency representatives may attend, the Council membership is composed of the Attorney General (Chair), the Secretary of Health and Human Services, the Secretary of Labor, the Secretary of Education, the Secretary of Housing and Urban Development, the Administrator of the Office of Juvenile Justice and Delinquency Prevention (Vice Chair), the Director of the Office of National Drug Control Policy, the Chief Executive Officer of the Corporation for National and Community Service, and the Assistant Secretary for Homeland Security, Immigrations and Customs Enforcement. Nine additional members are appointed by the Speaker of the House of Representatives, the Senate Majority Leader, and the President of the United States.

Meeting Agenda

The agenda for this meeting will include: (a) discussion of research concerning juveniles and youth who are disadvantaged or at-risk; (b) discussion of opportunities to leverage resources and coordinate research; (c) legislative, program and agency updates; and (d) other business and announcements.

Registration

For security purposes, members of the public who wish to attend the meeting must pre-register online at http://www.juvenilecouncil.gov/ or by fax to: 703-738-9149 [Daryel Dunston at 703-738-9175 or e-mail, ddunston@edjassociates.com for questions], no later than Wednesday, August 30, 2006. [Note: these are not toll-free telephone numbers.] Additional identification documents may be required. Space is limited.

Note: Photo identification will be required for admission to the meeting.

Written Comments

Interested parties may submit written comments by Wednesday, August 30, 2006, to Robin Delany-Shabazz, Designated Federal Official for the Coordinating Council on Juvenile Justice and Delinquency Prevention, at Robin.Delany-Shabazz@usdoj.gov. The Coordinating Council on Juvenile Justice and Delinquency Prevention expects that the public statements presented will not repeat previously submitted statements. Written questions and comments from the public may be invited at this meeting.

Dated: August 7, 2006.
Michael Costigan,
Chief of Staff, Office of Juvenile Justice and Delinquency Prevention.

[FR Doc. E6-13104 Filed 8-9-06; 8:45 am]

BILLING CODE 4410-18-P